FEDERAL COMMUNICATIONS COMMISSION

47 CFR Part 1

[WT Docket No. 08-61, WT Docket No. 03-187; DA 11-1608]

Programmatic Environmental Assessment

AGENCY: Federal Communications Commission.

ACTION: Proposed rule; extension of comment period.

SUMMARY: This document grants a motion requesting an extension of time to file comments in response to a draft programmatic environmental assessment (PEA) of the Antenna Structure Registration (ASR) program. The purpose of the PEA is to evaluate the potential environmental effects of the Commission's ASR program. Owners of structures that are taller than 200 feet above ground level or that may interfere with the flight path of a nearby airport must register those structures with the FCC.

DATES: Comments on the proposed rule published at 76 FR 54422, September 1, 2011, are now due on or before November 2, 2011.

ADDRESSES: You may submit comments, identified by WT Docket No. 08-61; WT Docket No. 03-187, by any of the following methods:

• Electronic Filers: Comments may be filed electronically using the Internet by accessing the Commission's Electronic Comment Filing System (“ECFS”): http://www.fcc.gov/cgb/ecfs/, through a link on the PEA Web site: http://www.fcc.gov/pea, or via the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

○ All hand-delivered or messenger-delivered paper filings for the Commission's Secretary must be delivered to FCC Headquarters at 445 12th St., SW., Room TW-A325, Washington, DC 20554. All hand deliveries must be held together with rubber bands or fasteners. Any envelopes must be disposed of before entering the building. The filing hours are 8 a.m. to 7 p.m.

○ Commercial overnight mail (other than U.S. Postal Service Express Mail and Priority Mail) must be sent to 9300 East Hampton Drive, Capitol Heights, MD 20743.

○ U.S. Postal Service first-class, Express, and Priority mail must be addressed to 445 12th Street, SW., Washington, DC 20554.

FOR FURTHER INFORMATION CONTACT: Aaron Goldschmidt, Wireless Telecommunications Bureau, (202) 418-7146, or e-mail Aaron.Goldschmidt@fcc.gov.

SUPPLEMENTARY INFORMATION: The FCC has established a Web site, http://www.fcc.gov/pea, which contains information and downloadable documents relating to the PEA process, including the Draft PEA. The Web site also allows individuals to contact the Commission. See original published document (proposed rule published at 76 FR 54422, September 1, 2011).

Federal Communications Commission.
Matthew Nodine,
Chief of Staff, Wireless Telecommunications Bureau.

[FR Doc. 2011-25576 Filed 9-30-11; 11:15 am]

BILLING CODE 6712-01-P